Executive Order 13742 of October 7, 2016

Termination of Emergency With Respect to the Actions and Policies of the Government of Burma

By the authority vested in me as President by the Constitution and the laws of the United States of America, including the International Emergency Economic Powers Act (50 U.S.C. 1701 et seq.), the National Emergencies Act (50 U.S.C. 1601 et seq.) (NEA), section 570 of the Foreign Operations, Export Financing, and Related Programs Appropriations Act, 1997 (Public Law 104-208), the Burmese Freedom and Democracy Act of 2003 (Public Law 108-61), the Tom Lantos Block Burmese JADE (Junta's Anti-Democratic Efforts) Act of 2008 (Public Law 110-286) (the “JADE Act”), section 212(f) of the Immigration and Nationality Act of 1952, as amended (8 U.S.C. 1182(f)) (INA), and section 301 of title 3, United States Code.

I, BARACK OBAMA, President of the United States of America, find that the situation that gave rise to the declaration of a national emergency in Executive Order 13047 of May 20, 1997, with respect to the actions and policies of the Government of Burma, in particular a deepening pattern of severe repression by the State Law and Order Restoration Council, the then-governing regime in Burma, as modified in scope by Executive Order 13448 of October 18, 2007, and Executive Order 13619 of July 11, 2012, has been significantly altered by Burma's substantial advances to promote democracy, including historic elections in November 2015 that resulted in the former opposition party, the National League for Democracy, winning a majority of seats in the national parliament and the formation of a democratically elected, civilian-led government; the release of many political prisoners; and greater enjoyment of human rights and fundamental freedoms, including freedom of expression and freedom of association and peaceful assembly. Accordingly, I hereby terminate the national emergency declared in Executive Order 13047, and revoke that order, Executive Order 13310 of July 28, 2003, Executive Order 13448, Executive Order 13464 of April 30, 2008, Executive Order 13619, and Executive Order 13651 of August 6, 2013, and further order:

Section 1. Pursuant to section 202(a) of the NEA (50 U.S.C. 1622(a)), termination of the national emergency declared in Executive Order 13047, as modified in scope by Executive Order 13448, and Executive Order 13619, shall not affect any action taken or proceeding pending not finally concluded or determined as of the effective date of this order, any action or proceeding based on any act committed prior to the effective date of this order, or any rights or duties that matured or penalties that were incurred prior to the effective date of this order.

Sec. 2. Pursuant to section 5(i) of the JADE Act, I hereby determine and certify that it is in the national interest of the United States to waive, and hereby waive, the sanctions described in section 5(b) of the JADE Act.

Sec. 3. In light of the revocation of Executive Order 13310, Executive Order 13448, and Executive Order 13464, the suspension of entry as immigrants and nonimmigrants, pursuant to Presidential Proclamation 8693 of July 24, 2011, and section 212(f) of the INA, of individuals meeting the criteria in said orders will no longer be in effect as of the effective date of this order. In light of the revocation of Executive Order 13619, the suspension of entry as immigrants and nonimmigrants of individuals meeting the criteria in that order will no longer be in effect as of the effective date of this order and such individuals will no longer be treated as persons covered by Presidential Proclamation 8693.

Sec. 4. This order is not intended to, and does not, create any right or benefit, substantive or procedural, enforceable at law or in equity by any party against the United States, its departments, agencies, or entities, its officers, employees, or agents, or any other person.

Sec. 5. This order is effective at 1:00 p.m. eastern daylight time on October 7, 2016.

THE WHITE HOUSE,

October 7, 2016.

[FR Doc. 2016-24847

Filed 10-11-16; 11:15 am]

Billing code 3295-F7-P